DEPARTMENT OF DEFENSE

Department of the Navy

32 CFR Part 701

[Docket ID: USN-2017-HQ-0008]

RIN 0703-AB17

Availability of Department of the Navy Records and Publication of Department of the Navy Documents Affecting the Public

AGENCY: Department of the Navy, DoD.

ACTION: Final rule.

SUMMARY: This final rule amends the CFR by removing DoD's regulation concerning the Department of the Navy (DoN) Privacy Program. On April 11, 2019, DoD published a revised DoD-level Privacy Program rule, which contains the necessary information for an agency-wide Privacy Program regulation under the Privacy Act and now serves as the single Privacy Program rule for the Department. That revised Privacy Program rule also includes all DoD component exemption rules. Therefore, subparts F through G of part 701 are now unnecessary and may be removed from the CFR.

DATES: This rule is effective on August 20, 2019.

FOR FURTHER INFORMATION CONTACT: Steven Daughety at 703-697-0045.

SUPPLEMENTARY INFORMATION: DoD now has a single DoD-level Privacy Program rule at 32 CFR part 310 (84 FR 14728) that contains all the codified information required for the Department. The DoN Privacy program regulations in subparts F through G of 32 CFR part 701, last updated on November 16, 2007 (72 FR 64538), are no longer required and can be removed.

It has been determined that publication of the removal of these CFR subparts for public comment is impracticable, unnecessary, and contrary to public interest because it is based on the removal of policies and procedures that are either now reflected in another CFR part, 32 CFR 310, or are publicly available on the Department's website. To the extent that DON internal guidance concerning the implementation of the Privacy Act within the DON is necessary, it will continue to be published in SECNAVINST 5211.5F, “Department of the Navy Privacy Program,” available at https://www.doncio.navy.mil/ContentView.aspx?id=799, dated May 20, 2019.

This rule is one of 20 separate component Privacy rules. With the finalization of the DoD-level Privacy rule at 32 CFR part 310, the Department eliminated the need for this component Privacy rule, thereby reducing costs to the public as explained in the preamble of the DoD-level Privacy rule published on April 11, 2019, at 84 FR 14728-14811.

This rule is not significant under Executive Order (E.O.) 12866, “Regulatory Planning and Review.” Therefore, E.O. 13771, “Reducing Regulation and Controlling Regulatory Costs,” does not apply.

List of Subjects in 32 CFR Part 701

Privacy.

Accordingly, 32 CFR part 701 is amended as follows:

PART 701—AVAILABILITY OF DEPARTMENT OF THE NAVY RECORDS AND PUBLICATION OF DEPARTMENT OF THE NAVY DOCUMENTS AFFECTING THE PUBLIC

1. The authority citation for part 701 continues to read as follows:

Authority: 5 U.S.C. 552.

Subparts F and G—[Removed and Reserved]

2. Amend part 701 by removing and reserving subparts F through G, consisting of §§ 701.100 through 701.129.

Dated: August 12, 2019.
D.J. Antenucci,
Commander, Judge Advocate General's Corps, U.S. Navy, Federal Register Liaison Officer.

[FR Doc. 2019-17872 Filed 8-19-19; 8:45 am]

BILLING CODE 3810-FF-P